DEPARTMENT OF TRANSPORTATION

Maritime Administration

[Docket No. DOT-MARAD-2017-0097]

Request for Comments on the Renewal of a Previously Approved Information Collection: Voluntary Intermodal Sealift Agreement (VISA)

AGENCY: Maritime Administration.

ACTION: Notice and request for comments.

SUMMARY: In compliance with the Paperwork Reduction Act of 1995, this notice announces that the Information Collection Request (ICR) abstracted below is being forwarded to the Office of Management and Budget (OMB) for review and comments. The information requested is needed by the Maritime Administration (MARAD) and the Department of Defense (DoD), including representatives from U.S. Transportation Command and its components, to assess respondents' eligibility for participation in the VISA program. A Federal Register Notice with a 60-day comment period soliciting comments on the following information collection was published on March 22, 2017 (FR 14796, Vol. 82, No. 54).

DATES: Comments must be submitted on or before July 20, 2017.

ADDRESSES: Send comments regarding the burden estimate, including suggestions for reducing the burden, to the Office of Management and Budget, Attention: Desk Officer for the Office of the Secretary of Transportation, 725 17th Street NW., Washington, DC 20503.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: William McDonald, 202-366-0688, Office of Sealift Support, Maritime Administration, U.S. Department of Transportation, 1200 New Jersey Avenue SE., W25-310, Washington, DC 20590.

SUPPLEMENTARY INFORMATION: Title: Voluntary Intermodal Sealift Agreement (VISA).

OMB Control Number: 2133-0532.

Type of Request: Renewal of a Previously Approved Information Collection.

Abstract: The Voluntary Intermodal Sealift Agreement (VISA) is a voluntary agreement, in accordance with section 708, Defense Production Act, 1950, as amended, under which participants agree to provide commercial sealift capacity and intermodal shipping services and systems, necessary to meet national defense requirements. In order to meet national defense requirements, the Government must assure the continued availability of commercial sealift resources.

Respondents: Operators of qualified dry cargo vessels.

Affected Public: Business or other for-profit.

Estimated Number of Respondents: 40.

Estimated Number of Responses: 40.

Estimated Hours per Response: 5.

Annual Estimated Total Annual Burden Hours: 200.

Frequency of Response: Annually.

(Authority: The Paperwork Reduction Act of 1995; 44 U.S.C. Chapter 35, as amended; and 49 CFR 1.93)

* * *

By Order of the Executive Director in lieu of the Maritime Administrator.
Dated: June 15, 2017.
T. Mitchell Hudson, Jr.,
Secretary, Maritime Administration.

[FR Doc. 2017-12793 Filed 6-19-17; 8:45 am]

BILLING CODE 4910-81-P